DEPARTMENT OF EDUCATION

Extension of the Application Deadline Date; Applications for New Awards; Competitive Grants for State Assessments Program

AGENCY: Office of Elementary and Secondary Education, Department of Education.

ACTION: Notice.

SUMMARY: On March 8, 2024, the Department of Education (Department) published in the Federal Register a notice inviting applications for the fiscal year (FY) 2024 Competitive Grants for State Assessments Program (NIA), Assistance Listing Number (ALN) 84.368A. The NIA established a deadline date of May 22, 2024, for the transmittal of applications. This notice extends the deadline date for transmittal of applications until May 24, 2024, and extends the deadline for intergovernmental review until July 23, 2024.

DATES:

Deadline for Transmittal of Applications: May 24, 2024.

Deadline for Intergovernmental Review: July 23, 2024.

FOR FURTHER INFORMATION CONTACT: Donald Peasley, U.S. Department of Education, 400 Maryland Avenue SW, Room 4B113, Washington, DC 20202-6132. Telephone: (202) 453-7982. Email: ESEA.Assessment@ed.gov.

If you are deaf, hard of hearing, or have a speech disability and wish to access telecommunications relay services, please dial 7-1-1.

SUPPLEMENTARY INFORMATION: On March 8, 2024, we published the NIA in the Federal Register (89 FR 16750). The NIA established a deadline date of May 22, 2024, for the transmittal of applications. This notice extends the deadline date for transmittal of applications until May 24, 2024.

Grants.gov is the system used to receive and process electronic applications for this grant competition. We are extending the deadline date for transmittal of applications because the Grants.gov system will be unavailable due to scheduled maintenance from May 18-21, 2024 and applicants will not be able to access Grants.gov during this period.

Applicants that have submitted applications on or before the original deadline date of May 22, 2024, may resubmit their applications on or before the new application deadline date of May 24, 2024, but are not required to do so. If a new application is not submitted, the Department will use the application that was submitted by the original deadline. If a new application is submitted, the Department will consider the application that was last successfully submitted and received by 11:59:59 p.m., Eastern Time, on May 24, 2024.

Note: All information in the NIA for this competition remains the same, except for the deadline for the transmittal of applications and the deadline for intergovernmental review.

Program Authority: Section 1203(b)(1) of the Elementary and Secondary Education Act of 1965 (20 U.S.C. 6363(b)(1)).

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-10294 Filed 5-10-24; 8:45 am]

BILLING CODE 4000-01-P